DEPARTMENT OF AGRICULTURE

Agricultural Marketing Service

[Docket #AMS-LS-07-0055; LS-07-06]

Pork Promotion, Research, and Consumer Information Program: Request for Referendum

AGENCY: Agricultural Marketing Service, USDA.

ACTION: Final Notice of Request for Referendum.

SUMMARY: This Notice announces that the United States Department of Agriculture's (USDA) Agricultural Marketing Service (AMS) will conduct a Request for Referendum among eligible pork producers and importers of hogs, pigs, pork, and pork products to determine if those persons want a referendum on the Pork Promotion, Research, and Consumer Information Order (Order), commonly known as the Pork Checkoff Program. The Request for Referendum will be conducted on December 8, 2008 through January 2, 2009. Participation is voluntary. Only those persons who want a referendum on the Pork Checkoff Program will participate. The Request for Referendum is being conducted as a result of a settlement of a lawsuit entered into February 28, 2001, with USDA and the Michigan Pork Producers Association, Inc., et al. (Plaintiffs). Under the settlement agreement, USDA agreed to conduct a Request for Referendum among eligible pork producers and importers to determine whether producers and importers favor holding a referendum on the Pork Checkoff Program. If the results of the the Request for Referendum show that 15 percent of the total number of eligible producers and importers want a referendum on the Pork Checkoff Program, the referendum will be conducted within 1 year after the results of the Request for Referendum are announced. If results of the Request for Referendum indicate that a referendum is not supported, a referendum would not be conducted.

DATES: Effective Date: November 14, 2008.

FOR FURTHER INFORMATION CONTACT: Kenneth R. Payne, Chief, Marketing Programs Branch, at (202) 720-1115, by fax at (202) 720-1125, or by e-mail at Kenneth.Payne@usda.gov or Rick Pinkston, USDA, FSA, DAFO, at (202) 720-1857, by fax at (202) 720-1096, or by e-mail at Rick.Pinkston@wdc.usda.gov.

SUPPLEMENTARY INFORMATION: The Pork Promotion, Research, and Consumer Information Act of 1985 (Act) (7 U.S.C. 4801-4819) provides for the establishment of a coordinated program of promotion and research designed to strengthen the pork industry's position in the marketplace and to maintain and expand domestic and foreign markets and uses for pork and pork products. The program is financed by an assessment of 0.40 percent of the market value of domestic and imported hogs and pigs and an equivalent amount on imported pork and pork products. Pursuant to the Act, an Order was made effective September 5, 1986, and the collection of assessments began on November 1, 1986.

The Request for Referendum is being conducted as a result of a settlement of a lawsuit entered into February 28, 2001, with USDA and the Plaintiffs. On February 28, 2001, USDA entered into a settlement agreement with the Plaintiffs that was based on the guiding principle that the National Pork Board which administers the Pork Checkoff Program should operate independently of the National Pork Producers Council, and any successor or similar organization, while the Pork Checkoff Program is in effect. Under the settlement agreement, USDA agreed to conduct a Request for Referendum among eligible pork producers and importers to determine whether 15 percent of those eligible producers and importers want a referendum on the Pork Checkoff Program.

For the purposes of determining the total number of pork producers for the Request for Referendum, AMS utilized the most recent data published by USDA's National Agricultural Statistics Service (NASS) in its February 2008, “Farms, Land in Farms, and Livestock Operations” report. The report shows that, for the year of 2007, the total number of farm operations with hogs and pigs, including those in Puerto Rico, was 67,140. Also, according to the U.S. Customs and Border Protection (Customs) data, there are approximately 2,306 importers who imported hogs, pigs, pork, or pork products during calendar year 2007. Based upon this data, the number of producers and importers eligible to participate in the Request for Referendum is approximately 69,446. Therefore, at least 10,417 eligible producers and importers must request a referendum on the Pork Checkoff Program.

Producers engaged in pork production and importers engaged in the importation of hogs, pigs, pork, or pork products between January 1, 2007, and December 31, 2007, and were at least 18 years of age on or before December 31, 2007, are eligible to participate.

Producers will participate at county FSA offices. Producers may obtain Form LS-54-1: Pork Promotion, Research, and Consumer Information Request for Referendum form by mail, fax, or in person from county FSA offices or on USDA's Web site at http://www.ams.usda.gov/LSMarketingPrograms. Producers must return Form LS 54-1 and supporting documentation, such as sales receipts, feed bills, veterinary bills, copies of grower contracts, and cancelled check or proof of payment where applicable, etc * * *, to the county FSA office where FSA maintains and processes the producer's administrative farm records or at the county FSA office serving the county where the producer owns or rents land. A person engaged in the production of hogs or pigs in the United States for sale in commerce who operates in more than one county must participate in the county FSA office where the person does most of his or her business. Completed Form LS 54-1 and supporting documentation, such as sales receipts, feed bills, veterinary bills, copies of grower contracts, and cancelled check or proof of payment where applicable, etc * * *, must be returned to the appropriate county FSA office by fax or in person no later than the last day of the Request for Referendum period, January 2, 2009, or, if returned by mail, LS 54-1 and supporting documentation must be postmarked by January 2, 2009. Eligible producers can determine the location of county FSA offices by contacting the nearest county FSA office, the State FSA office, or on FSA's Web site at http://www.fsa.usda.gov/pas/default.asp. From the options available on this Web page select “Contact Us” and locate the service center closest to you. Some county FSA offices service multiple counties. FSA will coordinate State and county FSA roles in conducting the Request for Referendum by (1) confirming producer eligibility, (2) canvassing and counting requests, and (3) reporting the results to AMS. Contract growers, who do not own, but do raise, provide care, and feed hogs and pigs for an owner, including a parent company, are allowed to participate in the Request for Referendum. For the producer not participating in FSA programs, the opportunity to participate will be provided at the County FSA office where the person owns or rents land.

Importers will participate through USDA's AMS headquarters office in Washington, DC. Importers may obtain Form LS-54-1 via mail, facsimile, or telephone from Kenneth R. Payne, Chief, Marketing Programs, Livestock and Seed Program, AMS, USDA, Room 2628-S, STOP 0251, 1400 Independence Avenue, SW., Washington, DC 20250-0251; Telephone: 202-720-1115; Fax: (202) 720-1125; via e-mail at Kenneth.Payne@usda.gov; or on USDA's Web site via the Internet at http://www.ams.usda.gov/LSMarketingPrograms. Importers must return Form LS 54-1 and supporting documentation such as Customs Form 7501, or any other supporting documentation to AMS by fax at (202) 720-1125, or in person no later than January 2, 2009. If returned by mail, form LS 54-1 and supporting documentation such as Customs Form 7501 must be postmarked by January 2, 2009. AMS strongly recommends that importers use a form of express mail service if returning forms via mail. AMS will determine importer eligibility.

Comments: USDA received three comments in response to the Request for Referendum Notice published on May 23, 2008. As previously mentioned, the purpose of the Notice was to receive comments on the information collection of the described action. One comment supported the collection of information AMS will use in the Request for Referendum, specifically using sales receipts as proof of eligibility. However, one commenter supported this action but suggested that contract growers provide copies of their grower contracts and a cancelled check as proof of payment. AMS believes that this has merit. Thus, contract growers will be required to provide their grower contract or cancelled check as proof of eligibility. This commenter also recommended that the only proof of eligibility that should be accepted for non-contract growers is a market sales receipt and opposed the use of feed and veterinary bills as proof of eligibility. One commenter supported this comment while noting that proof of the checkoff deduction is not always present on the bill of sale. However, AMS still concludes that copies of feed and veterinary bills dated during the representative period are adequate proof of producer eligibility. Consequently, AMS does not accept these comments. Several other comments provided by these commenters did not specifically address the information collection that was under consideration by AMS, and were therefore, not considered. In accordance with the Paperwork Reduction Act of 1995 (44 U.S.C. Chapter 35), the information collection request for the Request for Referendum has been approved by the Office of Management and Budget (OMB) and assigned OMB control number OMB 0581-0249.

Authority: 7 U.S.C. 4801-4811 and 7 U.S.C. 7401.

Dated: November 7, 2008.
James E. Link,
Administrator.

[FR Doc. E8-27016 Filed 11-13-08; 8:45 am]

BILLING CODE 3410-02-P